DEPARTMENT OF HEALTH AND HUMAN SERVICES

National Institutes of Health

Submission for OMB Review; 30-Day Comment Request; Identifying Experts in Prevention Science Methods To Include on NIH Review Panels (OD)

SUMMARY: Under the provisions of section 3507(a)(1)(D) of the Paperwork Reduction Act of 1995, the National Institutes of Health (NIH), Office of Disease Prevention (ODP) has submitted to the Office of Management and Budget (OMB) a request to review and approve the information collection listed below. This proposed information collection was previously published in the Federal Register on April 7, 2015, page 18641 and allowed 60 days for public comment. No public comments were received. The purpose of this notice is to allow an additional 30 days for public comment. The National Institutes of Health may not conduct or sponsor, and the respondent is not required to respond to, an information collection that has been extended, revised, or implemented on or after October 1, 1995, unless it displays a currently valid OMB control number.

Direct Comments To OMB: Written comments and/or suggestions regarding the item(s) contained in this notice, especially regarding the estimated public burden and associated response time, should be directed to the: Office of Management and Budget, Office of Regulatory Affairs, OIRA_submission@omb.eop.gov or by fax to 202-395-6974, Attn: NIH Desk Officer.

DATES: Comment Due Date: Comments regarding this information collection are best assured of having their full effect if received within 30-days of the date of this publication.

FOR FURTHER INFORMATION CONTACT: To obtain a copy of the data collection plans and instruments, or request more information on the proposed project, contact: Paris Watson, Senior Advisor, NIH Office of Disease Prevention, 6100 Executive Blvd., Room 2B03, Bethesda, MD 20892 or call (301) 496-1508 or email your request, including your address to prevention@mail.nih.gov. Formal requests for additional plans and instruments must be requested in writing.

Proposed Collection: Identifying Experts in Prevention Science Methods to Include on NIH Review Panels, 0925—New, Office of Disease Prevention (ODP), National Institutes of Health (NIH).

Need and Use of Information Collection: The Office of Disease Prevention (ODP) is the lead Office at the National Institutes of Health (NIH) responsible for assessing, facilitating, and stimulating research in disease prevention and health promotion, and disseminating the results of this research to improve public health. Prevention is preferable to treatment, and research on disease prevention is an important part of the NIH's mission. The knowledge gained from this research leads to stronger clinical practice, health policy, and community health programs. ODP collaborates with NIH, other Department of Health and Human Services (DHHS) agencies, and other public and private partners to achieve the Office's mission and goals. One of our priorities is to promote the use of the best available methods in prevention research and support the development of better methods. One of our strategies is to help NIH Scientific Review Officers (SROs) identify experts in prevention science methods to include on their review panels. This will strengthen the panels and improve the quality of the prevention research supported by NIH. To identify experts in prevention science methods, we worked with our contractor, IQ Solutions, Inc., to develop online software which will allow us to collect researchers' names, contact information, and resumes, as well as to have those researchers identify their level of expertise in a variety of prevention science methods and content areas. The data collected with this software will be used to support a web-based Electronic Directory that SROs can use to identify researchers with expertise in specific prevention science methods and content areas for invitation to serve on one of the NIH review panels. If the initial rollout with the Center for Scientific Review (CSR) is successful, this system will also be shared with review staff in the other Institutes and Centers at NIH, as well as other DHHS agencies, to use in a similar same way. Given our plans to create an automated system for reviewer information collection, we are now seeking OMB approval. This PRA clearance request is for the deployment of this new online software and the collection of data.

OMB approval is requested for 3 years. There are no costs to respondents other than their time. The total estimated annualized burden hours are 1,040.

Estimated Annualized Burden Hours
Type of respondents | Number of respondents | Number of responses per respondent | Average time per response (in hours) | Total annual burden hour
Investigators | 3,120 | 1 | 20/60 | 1040

Dated: August 13, 2015.
Lawrence A. Tabak,
Deputy Director, National Institutes of Health.

[FR Doc. 2015-20591 Filed 8-19-15; 8:45 am]

BILLING CODE 4140-01-P